DEPARTMENT OF ENERGY

Federal Energy Regulatory Commission

[Docket No. PF04-11-000]

Sempra Energy International, Sempra Energy LNG; Notice of Pre-Filing Process for the Planned Port Arthur LNG Terminal and Pipeline Project and Request for Comments on Environmental Issues

July 20, 2004.

This is an initial notice that the staff of the Federal Energy Regulatory Commission (Commission) has begun the National Environmental Protection Act (NEPA) Pre-filing Process and will prepare an environmental impact statement (EIS) for Sempra Energy International's and Sempra Energy LNG's (collectively referred to as Sempra) planned Port Arthur LNG Terminal and Pipeline Project in Texas and Louisiana. The Commission will use this review process to gather input from the public and interested agencies on the planned project. Your input will help to determine which issues need to be evaluated in the EIS. Once the company has provided more information on the location of the facilities we will issue another notice and schedule scoping meetings.

Comments may be submitted in written form or verbally. Further details on how to submit written comments are provided in the Public Participation section of this notice.

This notice is being sent to Federal, State, and local government agencies; elected officials; landowners, environmental and public interest groups; Native American tribes; other interested parties; and local libraries and newspapers. We ¹ encourage government representatives to notify their constituents of this planned project and encourage them to comment on their areas of concern.

¹ “We,” “us,” and “our” refer to the environmental staff of the FERC's Office of Energy Projects.

Summary of the Proposed Project

Sempra proposes to construct and operate an LNG import terminal and two natural gas send-out pipelines. These facilities would be used to deliver up to 1.5 billion cubic feet per day (Bcf/d) of natural gas to existing intrastate and interstate pipeline systems. The facilities could be expanded to deliver an additional 1.5 Bcf/d of natural gas.

The LNG receiving terminal would be located in the City of Port Arthur, Jefferson County, Texas, on the Port Arthur Ship Channel. The terminal would be designed to accept LNG and temporarily store and vaporize LNG and would contain up to three LNG storage tanks with an approximate capacity of 160,000 cubic meters (m³) each.

The terminal would contain two berths capable of accommodating the unloading of two LNG tankers. The berths would be designed for LNG tankers ranging in capacity from 100,000 m³ to 250,000 m³ and would require dredging to achieve the required size and depth to accommodate the LNG tanker ships. Sempra estimates that the facility could accommodate one ship every other day.

Two send-out pipelines also would be constructed to transport the vaporized natural gas to interconnections with existing intrastate and interstate pipeline systems. A 36-inch-diameter pipeline approximately 70 miles long and running northeast would cross Sabine Lake and connect the terminal with an interstate transmission pipeline at Transco Pipeline Compressor Station 45 near Ragley, Louisiana. A 30-inch-diameter pipeline approximately three miles long and running south would connect the terminal with the Natural Gas Pipeline Company of America interstate pipeline. Metering facilities would be installed at each of the interconnections. These pipelines would pass through Jefferson, and Orange Counties, Texas, and Cameron, Calcasieu, and Beauregard Parishes, Louisiana.

A conceptual map depicting the planned project facilities is provided in appendix 1.²

² The appendices referenced in this notice are not being printed in the Federal Register. Copies are available on the Commission's Internet Web site (http://www.ferc.gov) at the “eLibrary” link or from the Commission's Public Reference Room at (202) 502-8371. For instructions on connecting to eLibrary, refer to the end of this notice. Copies of the appendices are being sent to all those receiving this notice in the mail.

Sempra has requested a Commission decision on the project by September 30, 2005. Sempra proposes to start construction of the facility during the first quarter of 2006 and go into service on or about March 31, 2009.

In order to accommodate the construction of the LNG terminal, U.S. Highway 87, several pipelines, and other utilities would need to be relocated.

Land Requirements

The proposed Sempra LNG terminal would be constructed and operated on approximately 150 acres within an approximate 540-acre parcel. The 540-acre parcel is part of a much larger tract, about 2,900 acres, already owned by Sempra. The pipelines would require about 760 acres for construction.

The EIS Process

The FERC will be the lead Federal agency for the EIS process which is being conducted to satisfy the requirements of NEPA. NEPA requires the Commission to take into account the environmental impacts that could result from an action whenever it considers the issuance of a Certificate of Public Convenience and Necessity (Certificate) or Authorization.

NEPA also requires us to discover and address issues and concerns the public may have about proposals and to ensure those issues and concerns are analyzed in the EIS. This process is referred to as “scoping.” The goal of the scoping process is to focus the analysis in the EIS on the important and potentially significant environmental issues related to the proposed action, and on reasonable alternatives. The scoping process will begin after we have received more substantial information on the location of the proposed facilities. However, we welcome any comments agencies or the public may have on the Sempra proposal at this time. All comments received will be considered during the preparation of the EIS. To ensure your comments are considered, please carefully follow the instructions in the Public Participation section of this notice.

The Port Arthur LNG Terminal and Pipeline Project is in the preliminary design stage. At this time, specific facility locations and other details are being finalized and no formal application has been filed with the FERC. Sempra expects to file a formal application with the FERC in November 2004. Although we have no formal Certificate application, we are initiating our review of Sempra's planned project under our NEPA Pre-filing Process. The purpose of the FERC's NEPA Pre-filing Process is to:

• Establish a framework for constructive discussion between the project proponents, potentially affected landowners, agencies, and the Commission staff;

• Encourage the early involvement of interested stakeholders to identify issues and study needs; and

• Attempt to resolve issues early, before an application is filed with the FERC.

We are in the process of contacting agencies to request their assistance in the preparation of the EIS as a cooperating agency to satisfy their NEPA responsibilities. By this notice, we are also asking Federal, State, and local agencies with jurisdiction and/or special expertise with respect to environmental issues to formally cooperate with us. Agencies that would like to request cooperating status should follow the instructions for filing comments provided below.

Public Participation

You can make a difference by providing us with your specific comments or concerns about the planned project. Please focus your comments on the potential environmental effects, reasonable alternatives (including alternative facility sites and pipeline routes), and measures to avoid or lessen environmental impact. The more specific your comments, the more useful they will be. To ensure that your comments are timely and properly recorded, please carefully follow these instructions:

• Send an original and two copies of your letter to: Magalie R. Salas, Secretary, Federal Energy Regulatory Commission, 888 First Street, NE., Room 1A, Washington, DC 20426;

• Label one copy of your comments for the attention of Gas Branch 2; and

• Reference Docket No. PF04-11-000 on the original and both copies.

A docket number (PF04-11-000) has been established to place information filed by Sempra and related documents issued by the Commission, into the public record.³ Once a formal application is filed, the Commission will:

³ To view information in the docket, follow the instructions for using the eLibrary link in Availability of Additional Information, below.

• Publish a Notice of Application in the Federal Register;

• Establish a new docket number; and

• Set a deadline for interested persons to intervene in the proceeding.

Because the Commission's NEPA Pre-Filing Process occurs before an application to begin a proceeding is officially filed, petitions to intervene during this process are premature and will not be accepted by the Commission.

The Commission encourages electronic filing of comments. See 18 CFR 385.2001(a)(1)(iii) and the instructions on the Commission's Internet Web site at http://www.ferc.gov under the “eFiling” link and the link to the User's Guide. Prepare your submission in the same manner as you would if filing on paper and save it to a file on your hard drive. Before you can file comments you will need to create a free account by clicking on “Login to File” and then “New User Account.” You will be asked to select the type of filing you are making. This filing is considered a “Comment on Filing.”

Environmental Mailing List

If you wish to remain on our mailing list to receive any additional environmental notices and copies of the draft and final EIS, it is important that you return the Return Mailer (appendix 2) attached to this notice. If you do not return the mailer, you will be removed from our mailing list.

Availability of Additional Information

Additional information about the planned project is available from the Commission's Office of External Affairs, at 1-866-208-FERC (3372) or on the FERC Internet Web site (http://www.ferc.gov) using the eLibrary link. Click on the eLibrary link and click on “General Search” and enter the docket number, excluding the last three digits, in the Docket Number field (i.e., PF04-11). Be sure you have selected an appropriate date range. For assistance, please contact FERC Online Support at FERCOnLineSupport@ferc.gov or toll-free at (866) 208-3676 or for TTY, contact (202) 502-8659.

The Commission now offers a free service called eSubscription that allows you to keep track of all formal issuances and submittals in specific dockets. This can reduce the amount of time you spend researching proceedings by automatically providing you with notification of these filings, document summaries, and direct links to the documents. To register for this service, go to http://www.ferc.gov/esubscribenow.htm.

In addition, a fact sheet prepared by the FERC entitled “An Interstate Natural Gas Facility on My Land? What Do I Need To Know?” is available for viewing on the FERC Internet Web site. This fact sheet addresses a number of typically asked questions, including the use of eminent domain and how to participate in the Commission's proceedings.

Sempra has initiated a Public Participation Plan to provide a means of communication for participating stakeholders. A toll-free number 1-888-843-2464 has been established for communicating with Sempra representatives regarding this project. Also, contacts and information requests can be made by e-mail to Sempra at SempraEnergyCom@sempra.com. Finally, Sempra has established a Web site for this project. The Web site includes a list of public repositories along the planned route where all maps are available for inspection, along with applications filed with State and Federal agencies, among other useful information. Sempra's Web site is: http://www.portarthurlng.com.

Linda Mitry,
Acting Secretary.

[FR Doc. E4-1645 Filed 7-22-04; 8:45 am]

BILLING CODE 6717-01-P